DEPARTMENT OF ENERGY

Federal Energy Regulatory Commission

[Docket No. IC12-15-000]

Commission Information Collection Activities (FERC-546); Comment Request

AGENCY: Federal Energy Regulatory Commission, DOE.

ACTION: Comment request.

SUMMARY: In compliance with the requirements of the Paperwork Reduction Act of 1995, the Federal Energy Regulatory Commission (Commission or FERC) is submitting the information collection FERC-546 (Certificated Filings: Gas Pipeline Rates) to the Office of Management and Budget (OMB) for review of the information collection requirements. Any interested person may file comments directly with OMB and should address a copy of those comments to the Commission as explained below. The Commission issued a Notice in the Federal Register (77 FR 40438, 7/9/2012) requesting public comments. FERC received no comments on the FERC-546 and is making this notation in its submittal to OMB.

DATES: Comments on the collection of information are due by October 19, 2012.

ADDRESSES: Comments filed with OMB, identified by the OMB Control No. 1902-0155, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC12-15-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-546, Certificated Filings: Gas Pipeline Rates.

OMB Control No.: 1902-0155.

Type of Request: Three-year extension of the FERC-546 information collection requirements with no changes to the reporting requirements.

Abstract: The Commission reviews the FERC-546 materials to decide whether to determine an initial rate associated with an application for a certificate under NGA Section 7(c). It reviews FERC-546 materials in 4(f) storage applications to evaluate market power and decide whether to grant, deny, or condition market based rate authority for the applicant. The Commission uses the FERC-546 information to monitor jurisdictional transportation, natural gas storage, and unbundled sales activities of interstate natural gas pipelines and Hinshaw ¹ pipelines. In addition to fulfilling the Commission's obligations under the NGA, the FERC-546 enables the Commission to monitor the activities and evaluate transactions of the natural gas industry, ensure competitiveness, and improved efficiency of the industry's operations. In summary, the Commission uses the FERC-546 information to:

¹ Hinshaw pipelines are those that receive all out-of-state gas from entities within or at the boundary of a state if all the natural gas so received is ultimately consumed within the state in which it is received, 15 U.S.C. 717(c). Congress concluded that Hinshaw pipelines are “matters primarily of local concern,” and so are more appropriately regulated by pertinent state agencies rather than by FERC. The Natural Gas Act section 1(c) exempts Hinshaw pipelines from FERC jurisdiction. A Hinshaw pipeline, however, may apply for a FERC certificate to transport gas outside of state lines.

• Ensure adequate customer protections under section 4(f) of the NGA;

• Review rate and tariff changes by natural gas companies for the transportation of gas, natural gas storage services;

• Provide general industry oversight;

• And supplement documentation during its audits process.

Failure to collect this information would prevent the Commission from being able to monitor and evaluate transactions and operations of interstate pipelines and perform its regulatory functions.

Type of Respondents: Pipeline companies and storage operators.

Estimate of Annual Burden: ² The Commission estimates the total Public Reporting Burden for this information collection as:

² Burden is defined as the total time, effort, or financial resources expended by persons to generate, maintain, retain, or disclose or provide information to or for a Federal agency. For further explanation of what is included in the information collection burden, reference 5 Code of Federal Regulations 1320.3.

FERC-546 (IC12-15-000): Certificated Rate Filings (Gas Pipeline Rates)
| Number of respondents | Number of responses per respondent | Total number of responses | Average burden hours per response | Estimated total annual burden
| (A) | (B) | (A) × (B) = (C) | (D) | (C) × (D)
Pipeline Companies | 11 | 1 | 11 | 40 | 440
Storage Operators | 2 | 1 | 2 | 350 | 700
Total | 13 | N/A | 13 | N/A | 1,140

The total estimated annual cost burden to respondents is $78,669.97 [1,140 hours ÷ 2,080 ³ hours/year = 0.54807 * $143,540/year ⁴ = $78,669.97].

³ 2080 hours/year = 40 hours/week * 52 weeks/year

⁴ Average annual salary per employee in 2012.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: September 12, 2012.
Kimberly D. Bose,
Secretary.

[FR Doc. 2012-23030 Filed 9-18-12; 8:45 am]

BILLING CODE 6717-01-P